DEPARTMENT OF TRANSPORTATION

Federal Motor Carrier Safety Administration

[Docket Nos. FMCSA-2014-0342 and FMCSA-2014-0407]

Hours of Service (HOS) of Drivers; Applications for Exemption From the 14-Hour Rule

AGENCY: Federal Motor Carrier Safety Administration (FMCSA), DOT.

ACTION: Notice of final dispositions; denial of applications for exemption.

SUMMARY: FMCSA announces its denial of the applications of the American Moving & Storage Association (AMSA) and the International Association of Movers (IAM) for an exemption that would allow a driver to operate a commercial motor vehicle (CMV) after the 14th hour since coming on duty. AMSA and IAM are engaged in the movement of household goods by CMV. They requested the exemption for their drivers who are delayed at a residence beyond the 14th hour and need to move the vehicle to a secure location for overnight parking. FMCSA concluded that AMSA and IAM did not demonstrate how CMV operations under such an exemption would be likely to achieve a level of safety equivalent to or greater than the level of safety that would be obtained in the absence of the exemption.

DATES: FMCSA denied the applications for exemption by letters dated April 16 (IAM) and June 8 (AMSA).

FOR FURTHER INFORMATION CONTACT: Mr. Robert F. Schultz, FMCSA Driver and Carrier Operations Division; Office of Carrier, Driver and Vehicle Safety Standards; Telephone: 202-366-4325. Email: MCPSD@dot.gov.

SUPPLEMENTARY INFORMATION:

Background

FMCSA has authority under 49 U.S.C. 31136(e) and 31315 to grant exemptions from certain parts of the Federal Motor Carrier Safety Regulations. FMCSA must publish a notice of each exemption request in the Federal Register (49 CFR 381.315(a)). The Agency must provide the public an opportunity to inspect the information relevant to the application, including any safety analyses that have been conducted. The Agency must also provide an opportunity for public comment on the request.

The Agency reviews safety analyses and public comments submitted, and determines whether granting the exemption would likely achieve a level of safety equivalent to, or greater than, the level that would be achieved by the current regulation (49 CFR 381.305). The decision of the Agency must be published in the Federal Register (49 CFR 381.315(b)) with the reasons for denying or granting the application and, if granted, the name of the person or class of persons receiving the exemption, and the regulatory provision from which the exemption is granted. The notice must also specify the effective period and explain the terms and conditions of the exemption. The exemption may be renewed (49 CFR 381.300(b)).

Application for Exemption

AMSA and IAM are trade associations representing entities engaged in the movement of household goods by CMV. By separate applications, they sought exemption from the “14-hour rule” in 49 CFR 395.3(a)(2), which prohibits a CMV driver from driving a property-carrying CMV after the 14th hour after coming on duty following 10 consecutive hours off duty. They proposed that the exemption would be used solely by drivers who need to drive a moving van from a customer's residence to a safe place for overnight parking after the 14th hour of their duty day has elapsed. AMSA and IAM stated that unexpected delays during the day result in this predicament. They further stated that movement of CMVs from residential areas to overnight parking eliminates the safety hazard created when vans are parked in residential neighborhoods, and ensures the security of household goods in the moving vans. AMSA and IAM proposed that the exemption limit CMV driving after the 14th hour to 75 miles or 90 minutes.

Public Comments

On September 9, 2014, FMCSA published notice of the AMSA application and asked for public comment (79 FR 53510). Four individuals and Advocates for Highway and Auto Safety submitted comments. All opposed the application for exemption. On November 19, 2014, FMCSA published notice of the IAM application and asked for public comment (79 FR 68958). Ten commenters supported the application and five opposed it.

Agency Decision

The Agency's decision is based upon the information provided by the applicants, review of the comments received in response to the Federal Register notices, and the substantial body of HOS research the FMCSA relied upon to implement the 14-hour rule (68 FR 22473, April 28, 2003). The applicants for exemption did not offer any measures to offset the excessive fatigue to which CMV drivers operating beyond the 14th hour would be subjected. Furthermore, the applications did not limit how often the proposed exemption could be used. The FMCSA must therefore deny the applications for exemption.

The Agency denied the IAM and AMSA applications by letters dated April 16, 2015, and June 8, 2015, respectively. In each case, the Agency concluded that CMV operations under the exemption were not likely to achieve a level of safety equivalent to or greater than the level of safety that would be achieved in the absence of the exemption [49 CFR 381.310(c)(5)]. Copies of the denial letters are in the respective dockets.

Issued on: July 9, 2015.
Larry W. Minor,
Associate Administrator for Policy.

[FR Doc. 2015-17433 Filed 7-15-15; 8:45 am]

BILLING CODE 4910-EX-P